DEPARTMENT OF THE INTERIOR

U.S. Geological Survey

[GX15RB00FXBRD00]

Agency Information Collection Activities: Request for Comments

AGENCY: U.S. Geological Survey (USGS), Interior.

ACTION: Notice of a new information collection: Assessing Public Views of Waterfowl-Related Topics to Inform the North American Waterfowl Management Plan.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before August 31, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-NEW, Assessing Public Views of Waterfowl-Related Topics to Inform the North American Waterfowl Management Plan' in all correspondence.

FOR FURTHER INFORMATION CONTACT: Holly Miller, Social Scientist, at (970) 226-9133 or millerh@usgs.gov.

SUPPLEMENTARY INFORMATION:

I. Abstract

The North American Waterfowl Management Plan (NAWMP) is an international agreement signed by the United States Secretary of the Interior, the Canadian Minister of the Environment, and the Mexican Secretary of the Environment and Natural Resources. NAWMP lays out a strategy to restore waterfowl populations in North America through habitat protection, restoration, and enhancement. The 2012 revised goals of NAWMP focused for the first time on people as well as waterfowl and their habitats. Specifically, the plan states that “The needs and desires of people [as they relate to waterfowl] must be clearly understood and explicitly addressed” and calls for more human dimensions research with waterfowl hunters, viewers, and the general public. The plan recognizes the interconnectedness of waterfowl, their habitat, and stakeholders. Without human dimensions information, NAWMP objectives may not reflect stakeholder and societal values, and management and policy decisions may lead to actions that could be either irrelevant or counter to stakeholder and societal expectations.

To meet the goals set forth in the 2012 NAWMP revision, the NAWMP Human Dimensions Working Group has asked the USGS to conduct a mail survey to assess the general public's awareness and perceptions of waterfowl and wetlands, as well as measure participation in recreational activities, conservation behaviors, how people obtain information on nature-related issues, and demographics. Demographics collected on the survey will include voluntarily provided personally identifiable information (PII) such as gender, education, income, and race/ethnicity. Additionally, a representative sample of names and mailing addresses from the general public will be purchased from a survey sampling company which uses publically available information to construct sample lists.

To protect the confidentiality and privacy of survey respondents, the voluntarily provided PII from the survey will not be associated with any respondent's name or mailing address at any time and will only be analyzed and reported in aggregate. All files containing PII will be password-protected, housed on secure USGS servers, and only accessible to the research team.

PII collected on the survey will be used to understand if any segments of the American public hold differing views on waterfowl and waterfowl-related topics. For example, there may be differences in awareness and perceptions of waterfowl and wetlands or in participation in recreational activities between men and women. This will enable waterfowl managers and policymakers to better understand and be more responsive to the varied stakeholders they are serving. The data from the survey will be aggregated and statistically analyzed and the results will be published in publically available USGS reports.

The USGS Ecosystems Mission Area is conducting this effort as it aligns with their mission to “work with others to provide the scientific understanding and technologies needed to support the sound management and conservation of our Nation's biological resources.” Specifically, the Ecosystems Mission Area “enters into partnerships with scientific collaborators to produce high-quality scientific information and partnerships with the users of scientific information to ensure this information's relevance and application to real problems.”

II. Data

OMB Control Number: 1028-NEW.

Title: Assessing Public Views of Waterfowl-Related Topics to Inform the North American Waterfowl Management Plan.

Type of Request: New information collection.

Affected Public: General public.

Respondent's Obligation: None. Participation is voluntary.

Frequency of Collection: One time only.

Estimated Annual Number of Respondents: 1,200.

Estimated Total Number of Annual Responses: 1,200.

Estimated Time per Response: 20 minutes.

Estimated Annual Burden Hours: 400.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Dated: May 24, 2015.
David Hamilton,
Fort Collins Science Center Director.

[FR Doc. 2015-15948 Filed 6-29-15; 08:45 am]

BILLING CODE 4311-AM-P